DEPARTMENT OF COMMERCE

Bureau of Industry and Security

[Docket No. 0812221638-81639-01]

Request for Public Comments on the Effects of Export Controls on Decisions To Use or Not Use U.S.-Origin Parts and Components in Commercial Products and the Effects of Such Decisions

AGENCY: Bureau of Industry and Security, Commerce.

ACTION: Notice of inquiry.

SUMMARY: The Bureau of Industry and Security (BIS) is seeking public comment on whether U.S. export controls influence manufacturers' decisions to use or not use U.S.-origin parts and components in commercial products and the effects of such decisions. BIS is interested in obtaining specific information about whether such a practice occurs, and if so, its economic effects in order to assess the effectiveness of export controls as well as the impact of export controls on the U.S. economy.

DATES: Comments must be received no later than February 19, 2009.

ADDRESSES: Comments may be submitted via e-mail to publiccomments@bis.doc.gov. Please Refer to “Parts and Components Inquiry” in the subject line. Comments may also be sent to Parts and Components Study, Office of Technology Evaluation, Room 2705, U.S. Department of Commerce, 14th Street and Pennsylvania Avenue, NW., Washington, DC 20230.

FOR FURTHER INFORMATION CONTACT: Jennifer Watts, Office of Technology Evaluation, Bureau of Industry and Security, telephone: 202-482-8343; fax: 202-482-5361; e-mail jwatts@bis.doc.gov.

SUPPLEMENTARY INFORMATION:

Background

Export controls imposed by various agencies of the United States government, including, but not limited to, those imposed by BIS necessarily have an impact outside the United States. Certain U.S. export control regulations impose license requirements or other restrictions on commercial items manufactured outside the United States if those foreign-manufactured items contain U.S.-origin parts and components. BIS is seeking information to help it assess the impact of U.S. export controls on decisions by manufacturers whether to use U.S.-origin parts and components in their commercial products and the impact of such decisions on the effectiveness of export controls, the strength of the defense industrial base, employment in the United States, the financial strength of U.S. industry, and the ability of U.S. industry to compete in the market.

Specific and quantitative data, from U.S. persons, as well as foreign entities and governments, will be particularly helpful to BIS's assessment, but other types of information, including anecdotal information, will be useful as well. Quantitative data that is aggregated to reflect the combined experience of a group of companies or an industry segment also will be useful, particularly if individual companies are reluctant to provide company-specific quantitative data.

Regardless of whether it is qualitative or quantitative, if a comment asserts that manufacturers have elected not to include U.S.-origin parts and components in a foreign-manufactured commercial product because such inclusion could subject the products to U.S. export controls, the following kinds of data would be useful to BIS's assessment:

• Any evidence or information about the existence of advertising or marketing efforts that use the absence of U.S. origin components or exemption from U.S. export controls as a selling point.

• Any information about possible customer preferences for products that do not contain U.S.-origin components, and whether such preference may be related to relevant U.S. export controls.

• Any information describing parts and components that manufacturers may elect not to use because of their U.S. origin and any information regarding the products into which such parts and components are incorporated.

• Any information about sales lost by U.S. suppliers to non-U.S. competitors.

• Any information about specific commercial products that were designed or modified to explicitly exclude U.S. parts and components due to U.S. export controls.

• Any information about decisions to locate or relocate production facilities outside the United States, including a description of which items (including relevant commodity classification information, such as Export Control Classification Number) would be produced abroad.

• Any information about the possible economic impact (e.g., employment, outsourcing of specific expenditures such as research and development) to companies, industry segments or communities of any decision not to use U.S.-origin parts and components because of U.S. export controls, including any possible impact on the ability to support specific defense industrial base activities.

How To Comment

All comments must be in writing and submitted to one of the addresses indicated above. Comments must be received by BIS no later than February 19, 2009. BIS may consider comments received after that date if feasible to do so, but such consideration can not be assured. All comments submitted in response to this notice will be made a matter of public record, and will be available for public inspection and copying. Anyone submitting business confidential information should clearly identify the business confidential portion of the submission and also provide a non-confidential submission that can be placed in the public record. BIS will seek to protect business confidential information from public disclosure to the extent permitted by law.

Dated: December 24, 2008.
Christopher R. Wall,
Assistant Secretary for Export Administration.

[FR Doc. E8-31233 Filed 1-2-09; 8:45 am]

BILLING CODE 3501-33-P